DEPARTMENT OF HOMELAND SECURITY

Coast Guard

33 CFR Part 117

[Docket No. USCG-2018-0729]

Drawbridge Operation Regulation; Atlantic Intracoastal Waterway, Fort Pierce, FL

AGENCY: Coast Guard, DHS.

ACTION: Notice of temporary deviation from regulations; request for comments.

SUMMARY: The Coast Guard has issued a temporary deviation from the operating schedule that governs the Fort Pierce North Causeway A1A Bridge (Banty Sanders) across the Atlantic Intracoastal Waterway (AICW), mile 964.8 at Fort Pierce, St Lucie County FL. This deviation will test a change to the drawbridge operation schedule to determine whether a permanent change to the schedule is needed. This deviation will allow the bridge to remain in the closed to navigation position from 7 a.m. to 7 p.m.

DATES: This deviation is effective from 7 a.m. on September 1, 2018 to 7 a.m. on February 28, 2019. Comments and related material must reach the Coast Guard on or before January 1, 2019.

ADDRESSES: You may submit comments identified by docket number USCG-2018-0729 using Federal eRulemaking Portal at http://www.regulations.gov.

See the “Public Participation and Request for Comments” portion of the SUPPLEMENTARY INFORMATION section below for instructions on submitting comments.

FOR FURTHER INFORMATION CONTACT: If you have questions on this test deviation, call or email LT Samuel Rodrigues-Gonzalez, Sector Miami Waterways Management Division, U.S. Coast Guard; telephone 305-535-4307, email Samuel.Rodriguez-Gonzalez@uscg.mil.

SUPPLEMENTARY INFORMATION:

I. Background, Purpose and Legal Basis

The Fort Pierce North Causeway A1A Bridge (Banty Sanders) across the AICW, mile 964.8 in Fort Pierce, St Lucie County, FL is a bascule bridge. It has a vertical clearance of 26 feet at mean high water in the closed position and a horizontal clearance of 90 feet. The bridge currently operates under 33 CFR 117.5. There has been a large increase in vehicular traffic over the bridge in recent years due to large areas along the beach being developed for residential homes. This test deviation would provide for the bridge to operate on an advertised schedule for openings. The draw shall open on signal; except that, from 7 a.m. to 7 p.m. Monday through Friday except Federal Holidays, Saturdays and Sundays, the draw will open three times per hour: On the hour, 20 minutes past the hour and 40 minutes past the hour. Vessels in distress, public vessels of the United States, and tugs with tows must be passed at any time.

This waterway is utilized by vessels of the United States, commercial vessels, as well as recreational vessels. There is no alternate route for vessels desiring to travel north in the AICW. Vessels that may pass through the bridge without a requested opening may do so at any time.

The Coast Guard will also inform the users of the waterways through our

Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this document as being available in this docket and all public comments, will be in our online docket at http://www.regulations.gov and can be viewed by following that website's instructions. Additionally, if you go to the online docket and sign up for email alerts, you will be notified when comments are posted or a final rule is published.

Dated: August 27, 2018.
Barry Dragon,
Director, Bridge Branch, Seventh Coast Guard District.

[FR Doc. 2018-18820 Filed 8-29-18; 8:45 am]

BILLING CODE 9110-04-P